DEPARTMENT OF DEFENSE

Office of the Secretary

[DOCKET ID DOD-2011-OS-0055]

Defense Logistics Agency Revised Regulation 1000.22, Environmental Considerations in Defense Logistics Agency Actions

AGENCY: Defense Logistics Agency, Department of Defense.

ACTION: Notice of Availability (NOA) of Revised Defense Logistics Agency Regulation.

SUMMARY: The Defense Logistics Agency (DLA) announces the availability of the Revised Defense Logistics Agency Regulation (DLAR) 1000.22. The revised regulation will implement the National Environmental Policy Act of 1969 (NEPA), Council on Environmental Quality (CEQ) in the Code of Federal Regulations (CFR) (40 CFR parts 1500-1508) and all CEQ guidance documents and implementing instructions by establishing DLA policy and responsibilities for the early integration of environmental considerations into planning and decision-making. This revised DLAR supersedes DLAR 1000.22, June 1, 1981, and DLA Instruction (DLAI) 4103, Environmental Considerations in DLA Actions Abroad, effective October 18, 2004.

DATES: The public comment period will end June 17, 2011. Comments received by the end of the comment period will be considered when preparing the final version of the documents.

ADDRESSES: You may submit comments, identified by DOCKET ID: DOD-2011-OS-0055, by any of the following methods:

• Federal eRulemaking Portal: http://www.regulations.gov. Follow the instructions for submitting comments.

• E-mail: Phil.Dawson@dla.mil. Include DOCKET ID: DOD-2011-OS-0055 in the subject line of the message.

• Fax: 703-767-5268.

• Mail: Mr. Phillip R. Dawson, Defense Logistics Agency, DLA Installation Support, Environmental Management, Room 2639, 8725 John J. Kingman Road, Fort Belvoir, VA 22060-6221.

• Hand Delivery/Courier: Mr. Phillip R. Dawson, Defense Logistics Agency, DLA Installation Support, Environmental Management, Room 2639, 8725 John J. Kingman Road, Fort Belvoir, VA 22060-6221.

FOR FURTHER INFORMATION CONTACT: Mr. Phillip R. Dawson at (703) 767-6303 during normal business hours Monday through Friday, from 8 a.m. to 4:30 p.m.

SUPPLEMENTARY INFORMATION: Please see the proposed Revised Regulation DLAR 1000.22 at http://www.dla.mil/dlaps/fedreg/DraftDLAR1000-22(4-28-11).doc and Categorical Exclusions Technical Support Document at http://www.dla.mil/dlaps/fedreg/DLA_CATEX(3-17-2011).doc which are housed on the Defense Logistics Agency Issuance Program website, DLA Publishing System (DLAPS).

Dated: May 13, 2011.
Aaron Siegel,
Alternate OSD Federal Register Liaison Officer, Department of Defense.

[FR Doc. 2011-12227 Filed 5-17-11; 8:45 am]

BILLING CODE 5001-06-P